DEPARTMENT OF AGRICULTURE

Food and Nutrition Service

Agency Information Collection Activities: Proposed Collection; Comment Request—Information Collection for the Child and Adult Care Food Program

AGENCY: Food and Nutrition Service, USDA.

ACTION: Notice.

SUMMARY: In accordance with the Paperwork Reduction Act of 1995, this notice invites the general public and other public agencies to comment on a proposed information collection for the Child and Adult Care Food Program (CACFP). This information collection concerns the efforts required of States and service institutions to comply with the Secretary's requests for information. This proposed collection is a revision of the currently approved collection for the CACFP.

DATES: Written comments must be submitted by March 16, 2010.

ADDRESSES: Comments are invited on: (a) Whether the proposed collection of information is necessary for the proper performance of the functions of the agency, including whether the information will have practical utility; (b) the accuracy of the agency's estimate of the burden of the proposed collection of information, including the validity of the methodology and assumptions used; (c) ways to enhance the quality, utility and clarity of the information to be collected; and (d) ways to minimize the burden of collection of information on those who are to respond, including through the use of appropriate automated, electronic, mechanical or other technological collection techniques or other forms of information technology. Comments may be sent to: Mrs. Lynn Rodgers-Kuperman, Chief, Program Analysis and Monitoring Branch, Child Nutrition Division, Food and Nutrition Service (FNS), U.S. Department of Agriculture, 3101 Park Center Drive, Room 638, Alexandria, Virginia 22302. Comments will also be accepted through the Federal eRulemaking Portal. Go to http://www.regulations.gov and follow the online instructions for submitting comments electronically.

All written comment(s) will be open for public inspection at the office of the Food and Nutrition Service during regular business hours (8:30 a.m. to 5 p.m., Monday through Friday) at 3101 Park Center Drive, Room 640, Alexandria, Virginia 22302.

All responses to this notice will be summarized and included in the request for Office of Management and Budget (OMB) approval, and will become a matter of public record.

FOR FURTHER INFORMATION CONTACT: Mrs. Lynn Rodgers-Kuperman at (703) 305-2590.

SUPPLEMENTARY INFORMATION: Title: Child and Adult Care Food Program.

OMB Number: 0584-0055.

Expiration Date: June 30, 2010.

Type of Request: Revision of a currently approved collection.

Abstract: Section 17 of the NSLA, as amended, 42 U.S.C. 1766, authorizes the CACFP to provide cash reimbursement and commodity assistance, on a per meal basis, for food service to children in nonresidential child care centers and family day care homes, and to eligible adults in nonresidential adult day care centers. Pursuant to Section 17 of the Richard B. Russell National School Lunch Act (NSLA), the CACFP provides cash reimbursement and commodity assistance, on a per meal basis, for food service to children in nonresidential child care centers and family day care homes, and to eligible adults in nonresidential adult day care centers. The U.S. Department of Agriculture, through the Food and Nutrition Service has established application, monitoring and reporting requirements to manage the CACFP effectively. The purpose of this submission to OMB is to obtain approval to continue the discussed information collection. States and service institutions participating in the CACFP will submit to FNS account and record information reflecting their efforts to comply with statutory and regulatory Program requirements. In accordance with 7 CFR 226.7(d), State agencies must submit a monthly Report of the Child and Adult Care Food Program (FNS-44) in order to receive federal imbursement for meals served to eligible participants. Each State agency must also submit a quarterly Financial Status Report (SF-425) on the use of Program funds. Information to support these reports must be collected and reported to the State agency at various intervals by the Program participants—institutions, day care center facilities, family day care homes, and individuals and households. Examples of data collected and reported include, but are not limited to: Applications and supporting documents; records of enrollment; records supporting the free and reduced price eligibility determinations; daily records indicating numbers of program participants in attendance and the number of meals served by type and category; receipts, invoices and other records of CACFP costs; claims for reimbursement, and documentation of non-profit operation of food service.

Respondents: The respondents are State agencies, (Business: not-for-profit and for-profit) institutions, day care center facilities, family day care homes, and individuals and households.

Estimated Number of Respondents: 55 State agencies, (Business: non-for-profit and for-profit) 19,582 institutions, 163,483 facilities (includes 138,887 family day care homes and 24,596 sponsored center facilities) and 2,016,946 individuals and households.

Summary of Reporting Burden Estimates
Affected public | Estimated number of respondents | Responses per respondent | Total annual responses | Estimated avg. number of hours per response | Estimated total hours
State Agency | 55 | 646.29091 | 35,546.000 | 7.348298 | 261,202.600
Sponsor/Institution | 19,582 | 31.18226 | 610,611.000 | 5.293912 | 3,232,521.148
Facility | 163,483 | 12.00000 | 1,961,796.000 | 1.212388 | 2,378,457.000
Individual/Household | 2,016,946 | 1.93389 | 3,900,552.000 | 0.156314 | 609,711.439
Total Reporting Burden Estimates | 2,200,066 | 2.958323 | 6,508,505.000 | 0.995911 | 6,481,892.187

Summary of Recordkeeping Burden Estimates
Affected public | Estimated number of respondents | Responses per respondent | Total annual responses | Estimated avg. number of hours per response | Estimated total hours
State Agency | 55 | 6.00 | 330.000 | 2.17 | 716.000
Sponsor/Institution | 19,582 | 8.4747 | 165,952.000 | 1.47 | 243,244.178
Facility | 163,483 | 3.00 | 490,449.000 | 1.00 | 490,449.000
Total Recordkeeping Burden Estimates | 183,120 | 3.586 | 656,731.000 | 4.01053 | 734,408.178

Total Reporting & Recordkeeping Estimates: 7,216,300.365

Dated: January 7, 2010.
Julia Paradis,
Administrator, Food and Nutrition Service.

[FR Doc. 2010-628 Filed 1-14-10; 8:45 am]

BILLING CODE 3410-30-P